COMMITTEE FOR PURCHASE FROM PEOPLE WHO ARE BLIND OR SEVERELY DISABLED

Procurement List Additions and Deletion

AGENCY: Committee for Purchase From People Who Are Blind or Severely Disabled.

ACTION: Additions to and Deletion from the Procurement List.

SUMMARY: This action adds to the Procurement List products to be furnished by nonprofit agencies employing persons who are blind or have other severe disabilities, and deletes from the Procurement List a service previously furnished by such agencies.

DATES: Effective Date: May 25, 2008.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION:

Additions

On February 29, 2008, the Committee for Purchase From People Who Are Blind or Severely Disabled published notice (73 FR 11092) of proposed additions to the Procurement List.

After consideration of the material presented to it concerning capability of qualified nonprofit agencies to provide the products and impact of the additions on the current or most recent contractors, the Committee has determined that the products listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 46-48c) in connection with the products proposed for addition to the Procurement List.

End of Certification

Accordingly, the following products are added to the Procurement List:

Products

Fan Folded Self-Stick Note

NSN: 7530-00-NIB-0851—Value Pack with Dispenser.

NPA: Association for the Blind & Visually Impaired-Goodwill Ind. of Greater Rochester, Rochester, NY.

Coverage: A-List for the total Government requirement as specified by the General Services Administration.

Contracting Activity: General Services Administration, Federal Supply Services, Region 2, New York, NY.

Steering Wheel

NSN: 2530-00-277-2689.

NPA: Opportunities, Inc. of Jefferson County, Fort Atkinson, WI.

Coverage: C-List for the requirement of the Defense Supply Center Columbus, Columbus, OH.

Contracting Activity: Defense Supply Center Columbus, Columbus, OH.

Deletion

On February 29, 2008, the Committee for Purchase From People Who Are Blind or Severely Disabled published notice (73 FR 11092) of proposed deletions to the Procurement List.

After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action should not result in additional reporting, recordkeeping or other compliance requirements for small entities.

2. The action may result in authorizing small entities to furnish the service to the Government.

3. There are no known regulatory alternatives which would accomplish the objectives of the Javits-Wagner-O'Day Act (41 U.S.C. 46-48c) in connection with the service deleted from the Procurement List.

End of Certification

Accordingly, the following service is deleted from the Procurement List:

Service

Service Type/Location: Janitorial/Custodial, U.S. Federal Building and U.S. Post Office, 304 N. 8th, Boise, ID.

NPA: Western Idaho Training Company, Inc., Caldwell, ID.

Contracting Activity: General Services Administration, Public Buildings Service, Region 10.

Louis R. Bartalot,
Director, Program Analysis and Evaluation.

[FR Doc. E8-9051 Filed 4-24-08; 8:45 am]

BILLING CODE 6353-01-P